DEPARTMENT OF ENERGY

Federal Energy Regulatory Commission

Combined Notice of Filings

Take notice that the Commission has received the following Natural Gas Pipeline Rate and Refund Report filings:

Filings Instituting Proceedings

Docket Numbers: PR25-2-000.

Applicants: Columbia Gas of Ohio, Inc.

Description: § 284.123 Rate Filing: COH Rates eff 8-28-2024 to be effective 8/28/2024.

Filed Date: 10/1/24.

Accession Number: 20241001-5237.

Comment Date: 5 p.m. ET 10/22/24.

Docket Numbers: RP25-18-000.

Applicants: Roaring Fork Interstate Gas Transmission, LLC.

Description: § 4(d) Rate Filing: Annual FL&U Reimbursement Percentage Filing to be effective 11/1/2024.

Filed Date: 10/1/24.

Accession Number: 20241001-5244.

Comment Date: 5 p.m. ET 10/15/24.

Docket Numbers: RP25-19-000.

Applicants: Texas Eastern Transmission, LP.

Description: § 4(d) Rate Filing: Negotiated Rates—Con Ed to Nextera eff 10-1-24 to be effective 10/1/2024.

Filed Date: 10/1/24.

Accession Number: 20241001-5261.

Comment Date: 5 p.m. ET 10/15/24.

Docket Numbers: RP25-20-000.

Applicants: Gulf South Pipeline Company, LLC.

Description: § 4(d) Rate Filing: Cap Rel Neg Rate Agmt (Aethon 52454 to Scona 58487) to be effective 10/1/2024.

Filed Date: 10/1/24.

Accession Number: 20241001-5276.

Comment Date: 5 p.m. ET 10/15/24.

Docket Numbers: RP25-21-000.

Applicants: Southern Natural Gas Company, L.L.C.

Description: § 4(d) Rate Filing: Negotiated Rate Agreement—Texican No. 2—Oct 2024 to be effective 10/1/2024.

Filed Date: 10/1/24.

Accession Number: 20241001-5304.

Comment Date: 5 p.m. ET 10/15/24.

Docket Numbers: RP25-22-000.

Applicants: Cimarron River Pipeline, LLC.

Description: § 4(d) Rate Filing: CRP—2024 Winter Fuel Reimbursement to be effective 11/1/2024.

Filed Date: 10/1/24.

Accession Number: 20241001-5309.

Comment Date: 5 p.m. ET 10/15/24.

Docket Numbers: RP25-23-000.

Applicants: Elba Express Company, L.L.C.

Description: § 4(d) Rate Filing: EEC Negotiated Rate Filing—SNG—Oct 2024 to be effective 10/1/2024.

Filed Date: 10/1/24.

Accession Number: 20241001-5314.

Comment Date: 5 p.m. ET 10/15/24.

Docket Numbers: RP25-24-000.

Applicants: Carlsbad Gateway, LLC.

Description: § 4(d) Rate Filing: Carlsbad Gateway Annual Fuel Use—Lost Gas Adjustment Filing to be effective 11/1/2024.

Filed Date: 10/1/24.

Accession Number: 20241001-5322.

Comment Date: 5 p.m. ET 10/15/24.

Docket Numbers: RP25-25-000.

Applicants: ConocoPhillips Company.

Description: Petition for Limited Waiver of Capacity Release Regulations, et al. of ConocoPhillips Company.

Filed Date: 10/1/24.

Accession Number: 20241001-5339.

Comment Date: 5 p.m. ET 10/15/24.

Docket Numbers: RP25-27-000.

Applicants: Transcontinental Gas Pipe Line Company, LLC.

Description: Compliance filing: Annual Cash-Out Report Period Ending July 31, 2024, to be effective N/A.

Filed Date: 10/1/24.

Accession Number: 20241001-5356.

Comment Date: 5 p.m. ET 10/15/24.

Docket Numbers: RP25-28-000.

Applicants: Natural Gas Pipeline Company of America LLC.

Description: § 4(d) Rate Filing: Negotiated Rate Agreements Filing-Nicor Gas Company to be effective 11/1/2024.

Filed Date: 10/1/24.

Accession Number: 20241001-5368.

Comment Date: 5 p.m. ET 10/15/24.

Docket Numbers: RP25-29-000.

Applicants: Gulf South Pipeline Company, LLC.

Description: § 4(d) Rate Filing: Amendment to Neg Rate Agmt and Cap Rel Agmt (Colorado Bend 46260 eff 10-1-2024) to be effective 10/1/2024.

Filed Date: 10/1/24.

Accession Number: 20241001-5382.

Comment Date: 5 p.m. ET 10/15/24.

Docket Numbers: RP25-30-000.

Applicants: Texas Gas Transmission, LLC.

Description: § 4(d) Rate Filing: Superseding Negotiated Rate Agreement (Constellation 38117) to be effective 10/1/2024.

Filed Date: 10/1/24.

Accession Number: 20241001-5409.

Comment Date: 5 p.m. ET 10/15/24.

Docket Numbers: RP25-31-000.

Applicants: Iroquois Gas Transmission System, L.P.

Description: § 4(d) Rate Filing: 10.2.24 Negotiated Rates—Emera Energy Services, Inc. R-2715-95 to be effective 11/1/2024.

Filed Date: 10/2/24.

Accession Number: 20241002-5041.

Comment Date: 5 p.m. ET 10/15/24.

Docket Numbers: RP25-32-000.

Applicants: Iroquois Gas Transmission System, L.P.

Description:§ 4(d) Rate Filing: 10.2.24 Negotiated Rates—Emera Energy Services, Inc. R-2715-96 to be effective 11/1/2024.

Filed Date: 10/2/24.

Accession Number: 20241002-5043.

Comment Date: 5 p.m. ET 10/15/24.

Docket Numbers: RP25-33-000.

Applicants: Mississippi Hub, LLC.

Description: Annual Report of Penalty Revenues of Mississippi Hub, LLC.

Filed Date: 10/2/24.

Accession Number: 20241002-5094.

Comment Date: 5 p.m. ET 10/15/24.

Docket Numbers: RP25-34-000.

Applicants: Midcontinent Express Pipeline LLC.

Description: § 4(d) Rate Filing: MEP Nextera and Targa Negotiated Rate Filing to be effective 8/1/2024.

Filed Date: 10/2/24.

Accession Number: 20241002-5088.

Comment Date: 5 p.m. ET 10/15/24.

Docket Numbers: RP25-35-000.

Applicants: Algonquin Gas Transmission, LLC.

Description: § 4(d) Rate Filing: Negotiated Rates—Yankee Gas to Emera eff 10-2-24 to be effective 10/2/2024.

Filed Date: 10/2/24.

Accession Number: 20241002-5090.

Comment Date: 5 p.m. ET 10/15/24.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

The filings are accessible in the Commission's eLibrary system (https://elibrary.ferc.gov/idmws/search/fercgensearch.asp) by querying the docket number. eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 2, 2024.
Debbie-Anne A. Reese,
Acting Secretary.

[FR Doc. 2024-23302 Filed 10-8-24; 8:45 am]

BILLING CODE 6717-01-P